DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 38819-38821, dated July 6, 2010) is amended to reorganize the Management Analysis and Services Office, Office of the Chief Operating Officer, Centers for Disease Control and Prevention.

Section C-B, Organization and Functions, is hereby amended as follows:

Delete in their entirety the titles and functional statements for the Management Analysis and Services Office (CAJG), insert the following:

Management Analysis and Services Office (CAJG). The mission of the Management Analysis and Services Office (MASO) is to support CDC through customer-centered professional services in areas that have high impact across the agency. To achieve this mission, MASO provides consultation, analysis, and coordination in the areas of business process management; delegations of authority; electronic forms management; Federal advisory committee management; information quality; internal controls and risk management; mail center services; management studies and surveys; organizations and functions; policy development; printing procurement; and records management.

Office of the Director (CAJG1). (1) Manages, directs, coordinates, supports, and implements MASO activities; (2) provides strategic leadership to set priorities, goals, objectives, and performance measurement plans for the office; (3) provides leadership and guidance to develop policies and procedures in MASO's functional areas; (4) establishes standards, develops, and implements strategic plans for customer service management; and (5) manages MASO's budget and human resources.

Management Assessment Branch (CAJGB). (1) Consults with CDC program officials seeking to establish, modify, or abolish organizational structures and functions; reviews and analyzes organizational change documents to prepare for approval by CDC and HHS officials; (2) interprets, analyzes, and makes recommendations concerning delegations of program and administrative authorities, and develops appropriate delegating documents; (3) serves as the CDC office of record for delegations of authority; (4) facilitates development, issuance, and dissemination of CDC-wide policies in accordance and compliance with established HHS and other Federal statutes, policies and guidelines and routinely performs comprehensive reviews to identify and address policy gaps; (5) maintains the official CDC library of administrative management policy and procedures manuals; (6) manages the CDC records management program; provides advice, guidance, training and technical assistance for records schedules, transfer of records, records storage, and administration of electronic records; and (7) serves as the agency liaison to the National Archives and Records Administration.

Information Services Branch (CAJGC). (1) Oversees CDC-wide print management program; (2) liaisons with contract suppliers, the Government Printing Office, HHS, and other agencies on matters pertaining to print and publication procurement; (3) manages CDC-wide information services including electronic and postal distribution lists, mail and messenger services, and electronic announcements; (4) coordinates policies and procedures for white paper recycling; (5) manages the agency resource index to support CDC call management services and hotlines; (6) serves as contracting officer technical representative for Atlanta campus food services; (7) applies established government guidelines (Pub. L. 106-554, Section 515) to manage inquiries and complaints submitted by the public and to ensure the quality of information disseminated to the public by CDC; (8) provides CDC-wide electronic forms management services, including development, coordination of clearances, and inventory management; and (9) manages appropriate technology architecture and methodology for CDC-wide applications, databases, and systems that are managed by MASO.

Business Process Analysis Management Branch (CAJGE). (1) Designs and coordinates management and business process studies for CDC organizational components; (2) coordinates CDC compliance with OMB Circular A-123 and the Federal Managers Financial Integrity Act, through administration, and oversight of CDC's internal controls and risk management program; and (3) coordinates with the Financial Management Office to develop the annual assurance statement for signature of the Director, CDC.

Federal Advisory Committee Management Branch (CAJGG). (1) Provides strategic planning for Federal advisory policy, management, and operations; (2) serves as liaison to the broad executive branch Federal advisory committee community, including HHS OPDIVs, HHS Secretary and the Committee Management Secretariat, General Services Administration; (3) provides oversight, guidance, training, and support to CDC advisory committee officials to establish Federal advisory committees and to nominate and to appoint special government employees (SGEs); (4) manages SGE ethics program including training and financial disclosure reporting; (5) provides regulatory and policy interpretation to support Federal advisory committees; (6) provides oversight and management for special emphasis panels for external peer review of grant and cooperative agreement applications; and (7) ensures that advisory committee operations comply with established statutes, regulations and guidelines and that CDC policy governing Federal advisory committees provides for flexibility in management of operations, while maintaining the scientific integrity of the CDC.

Dated: July 20, 2010.
William P. Nichol,
Chief Operating Officer, Centers for Disease Control and Prevention.

[FR Doc. 2010-18616 Filed 7-29-10; 8:45 am]

BILLING CODE 4160-18-M